DEPARTMENT OF STATE

[Public Notice 5912]

Industry Advisory Panel: Notice of Charter Renewal

The Assistant Secretary for Management has approved the renewal of the charter for the Industry Advisory Panel of Overseas Buildings Operations for an additional two-year period. The panel meets quarterly in the Harry S. Truman Building, U.S. Department of State, located at 2201 C Street, NW. (entrance on 23rd Street), Washington, DC. The majority of each meeting is devoted to an exchange of ideas between the Department's Bureau of Overseas Building Operations' senior management and the panel members, on design, operations, and building maintenance. The meetings are open to the public and are subject to advance registration and provision of required security information. Procedures for registration are included with each meeting announcement, no later than fifteen business days before each meeting.

If you have any questions, please contact Andrea Walk at walkam@state.gov or on (703) 516-1544.

Dated: October 2, 2007.
Charles E. Williams,
Director and Chief Operating Officer Overseas Buildings Operations, Department of State

.

[FR Doc. E7-20641 Filed 10-18-07; 8:45 am]

BILLING CODE 4710-24-P